DEPARTMENT OF TRANSPORTATION

Office of the Secretary

Application of Executive Jet Management, Inc. for Commuter Authority: Correction

AGENCY: Department of Transportation.

ACTION: Correction to Notice of Order to Show Cause (Order 2005-7-15) Docket OST-2005-20492.

SUMMARY: By Order 2005-7-15, served on July 20, 2005, the Department tentatively concluded that Executive Jet Management, Inc. is fit, willing, and able to provide scheduled passenger operations as a commuter air carrier under 49 U.S.C. 41738, and should be issued commuter air carrier authority, subject to conditions. At that time, we directed interested parties to file objections no later than 14 days after the service date of the order (i.e., August 3, 2005). Subsequently, the Department published a Notice in the Federal Register on July 21, 2005, inadvertently directing all interested parties wishing to file objections to do so by August 29, 2005. In order to correct this administrative error, while, at the same time, providing interested parties with a suitable period of time to file comments, we find it appropriate to direct persons wishing to file objections to our tentative decision to so by August 15, 2005.

FOR FURTHER INFORMATION CONTACT: Mr. Trace Atkinson, Air Carrier Fitness Division (X-56, Room 6401), U.S. Department of Transportation, 400 Seventh Street, SW., Washington, DC 20590, (202) 366-3176.

Correction

In the Federal Register of July 21, 2005, in FR Doc. 05-14379, on page 42135, in the third column, correct the “Dates” caption to read:

DATES: Persons wishing to file objections should do so no later than August 15, 2005.

Editorial Note: This document was inadvertently omitted from the issue of Wednesday, August 10, 2005.

Dated: August 4, 2005.
Karan K. Bhatia,
Assistant Secretary, for Aviation and International Affairs.

[FR Doc. 05-15917 Filed 8-9-05; 8:45 am]

BILLING CODE 4910-62-M